DEPARTMENT OF DEFENSE

Uniformed Services University of the Health Sciences

Sunshine Act Meeting

AGENCY HOLDING THE MEETING: Uniformed Services University of the Health Sciences.

TIME AND DATE: 8:30 a.m. to 4 p.m., September 8, 2000.

PLACE: The United States Air Force Academy, Colorado Springs, Colorado.

STATUS: Open—under “Government in the Sunshine Act” (5 U.S.C. 552b(e)(3)).

MATTERS TO BE CONSIDERED:

8:30 a.m. Meeting—Board of Regents

(1) Approval of Minutes—May 19, 2000

(2) Faculty Matters

(3) Departmental Reports

(4) Financial Report

(5) Report—President, USUHS

(6) Report—Dean, School of Medicine

(7) Report—Dean, Graduate School of Nursing

(8) Comments—Chairman, Board of Regents

(9) New Business

CONTACT PERSON FOR MORE INFORMATION: Mr. Bobby D. Anderson, Executive Secretary, Board of Regents, (301) 295-3116.

Dated: July 26, 2000.
C.M. Robinson,
OSD Federal Register Liaison Officer, Department of Defense.

[FR Doc. 00-19437 Filed 7-27-00; 4:35 pm]

BILLING CODE 5001-10-M